DEPARTMENT OF TRANSPORTATION

National Highway Traffic Safety Administration

[Docket No. NHTSA-2013-0064; Notice 1]

Notice of Receipt of Petition for Decision that Nonconforming 1988-1996 Alpina B10 Passenger Cars Are Eligible for Importation

AGENCY: National Highway Traffic Safety Administration, DOT.

ACTION: Receipt of petition.

SUMMARY: This document announces receipt by the National Highway Traffic Safety Administration (NHTSA) of a petition for a decision that nonconforming 1988-1996 Alpina B10 passenger cars that were not originally manufactured to comply with all applicable Federal Motor Vehicle Safety Standards (FMVSS), are eligible for importation into the United States because they have safety features that comply with, or are capable of being altered to comply with, all such standards.

DATES: October 25, 2013.

ADDRESSES: Comments should refer to the docket and notice numbers above and be submitted by any of the following methods:

• Federal eRulemaking Portal: Go to http://www.regulations.gov. Follow the online instructions for submitting comments.

• Mail: Send comments by mail addressed to: U.S. Department of Transportation, 1200 New Jersey Avenue SE., West Building Ground Floor, Room W12-140, Washington, DC 20590-0001

• Hand Delivery: Deliver comments by hand to: West Building Ground Floor, Room W12-140, 1200 New Jersey Avenue SE., between 9 a.m. and 5 p.m. ET, Monday through Friday, except Federal holidays.

• Electronically: Submit comments electronically by: logging onto the Federal Docket Management System (FDMS) Web site at http://www.regulations.gov/. Follow the online instructions for submitting comments. Comments may also be faxed to (202) 493-2251

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000 (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

FOR FURTHER INFORMATION CONTACT: George Stevens, Office of Vehicle Safety Compliance, NHTSA (202-366-5308).

SUPPLEMENTARY INFORMATION:

Background

Under 49 U.S.C. 30141(a)(1)(B), a motor vehicle that was not originally manufactured to conform to all applicable FMVSS, and has no substantially similar U.S.-certified counterpart, shall be refused admission into the United States unless NHTSA has decided that the motor vehicle has safety features that comply with, or are capable of being altered to comply with, all applicable FMVSS based on destructive test data or such other evidence as NHTSA decides to be adequate.

Petitions for eligibility decisions may be submitted by either manufacturers or importers who have registered with NHTSA pursuant to 49 CFR Part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

101 Innovations, LLC. of Lummi Island, WA (Registered Importer 07-350) has petitioned NHTSA to decide whether nonconforming 1988-1996 Alpina B10 passenger cars are eligible for importation into the United States. 101 Innovations believes these vehicles are capable of being modified to meet all applicable FMVSS.

In the past, NHTSA has granted import eligibility to a number of Alpina vehicles that were derived from BMW vehicles. These include the 2005-2007 (manufactured before September 1, 2006) Alpina B5 series, 1987-1994 Alpina B11 sedan, the 1989-1996 Alpina B12 2-door coupe, and the 1988-1994 Alpina B12 5.0 sedan (assigned vehicle eligibility numbers VCP-53, VCP-48, VCP-43, and VCP-41, respectively). These eligibility decisions were based on petitions submitted by Registered Importers (RIs) who claimed that the vehicles were capable of being altered to comply with all applicable FMVSS.

Because those vehicles were not manufactured for importation into and sale in the United States, and were not certified by their original manufacturer (Alpina), as conforming to all applicable FMVSS, they cannot be categorized as “substantially similar” to the vehicle that is the subject of the petition at issue for the purpose of establishing import eligibility for that vehicle under 49 U.S.C. 30141(a)(1)(A). Therefore, the agency will consider 101 Innovation's petition as a petition pursuant to 49 U.S.C. 30141(a)(1)(B).

101 Innovations submitted information with its petition intended to demonstrate that non-U.S. certified 1988-1996 Alpina B10 passenger cars, as originally manufactured, conform to many FMVSS. Specifically, the petitioner claims that non-U.S. certified 1988-1996 Alpina B10 passenger cars, as originally manufactured, conform to: Standard Nos. 102 Transmission Shift Lever Sequence, Starter Interlock, and Transmission Braking Effect, 103 Windshield Defrosting and Defogging Systems, 104 Windshield Wiping and Washing Systems, 105 Hydraulic and Electric Brake Systems, 106 Brake Hoses, 107 Reflective Surfaces, 109 New Pneumatic Tires, 113 Hood Latch System, 116 Motor Vehicle Brake Fluids, 124 Accelerator Control Systems, 201 Occupant Protection in Interior Impact, 202 Head Restraints, 204 Steering Control Rearward Displacement, 205 Glazing Materials, 206 Door Locks and Door Retention Components, 207 Seating Systems, 210 Seat Belt Assembly Anchorages, 211 Wheel Nuts, Wheel Disks, and Hub Caps, 212 Windshield Mounting, 214 Side Impact Protection, 216 Roof Crush Resistance, 219 Windshield Zone Intrusion, 301 Fuel System Integrity, and 302 Flammability of Interior Materials.

The petitioner also contends that the vehicles are capable of being readily altered to meet the following standards, in the manner indicated:

Standard No. 101 Controls and Displays: replacement of the instrument cluster with components from the U.S.-model BMW E34 5-series and reprogramming the vehicle computer to operate the necessary safety systems.

Standard No. 108 Lamps, Reflective Devices, and Associated Equipment: replacement of the headlamps and front and rear marker lights with components from the U.S.-model BMW E34 5-series, and installation of the high-mounted stop light assembly from the U.S.-model BMW E34 5-series.

Standard No. 110 Tire Selection and Rims for Motor Vehicles with a GVWR of 4,536 kilograms (10,000 pounds) or Less: installation of a tire information placard.

Standard No. 111 Rearview Mirrors: replacement of the passenger side rearview mirror with a component from the U.S.-model BMW E34 5-series or inscription of the required warning statement on the face of that mirror.

Standard No. 114 Theft Protection and Rollaway Prevention: activation of occupant warning chime by reprogramming vehicle modules and inspection and replacement of ignition switch with component from the U.S.-model BMW E34 5-series if necessary to incorporate key detection micro switch.

Standard No. 115 Vehicle Identification Number: installation of a VIN plate near the left windshield pillar.

Standard No. 118 Power-operated Window, Partition, and Roof Panel Systems: inspection of early models of these vehicles for remote activation devices that exceed the distance limitations of this standard. Systems not conforming to this standard will be disabled to achieve conformity.

Standard No. 208 Occupant Crash Protection: installation of airbag system components from the U.S.-model BMW E34 5-series as necessary. Installation of driver and/or passenger knee bolsters that conform to the requirements of this standard.

Standard No. 209 Seat Belt Assemblies: inspection of seat belt assemblies and replacement of any non-conforming components with U.S.-model BMW E34 5-series components.

Authority: 49 U.S.C. 30141(a)(1)(A), (a)(1)(B), and (b)(1); 49 CFR 593.7; delegation of authority at 49 CFR 1.95 and 501.8.

Claude H. Harris,
Director, Office of Vehicle Safety Compliance.

[FR Doc. 2013-23358 Filed 9-24-13; 8:45 am]

BILLING CODE 4910-59-P